DEPARTMENT OF COMMERCE

National Oceanic and Atmospheric Administration

RIN 0648-XF083

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two-day meeting of its Joint Ad Hoc Reef Fish Headboat and Ad Hoc Red Snapper Charter For-Hire Advisory Panels.

DATES: The meeting will convene on Monday, January 9, 2017, from 9 a.m. to 5 p.m. and Tuesday, January 10, 2017, from 9 a.m. to 5 p.m. EDT.

ADDRESSES: The meeting will take place at the Hyatt Centric French Quarter Hotel, located at 800 Iberville Street, New Orleans, LA 70112; telephone: (504) 586-0800.

Council address: Gulf of Mexico Fishery Management Council, 2203 N. Lois Avenue, Suite 1100, Tampa, FL 33607; telephone: (813) 348-1630.

FOR FURTHER INFORMATION CONTACT: Dr. Assane Diagne, Economist, Gulf of Mexico Fishery Management Council; assane.diagne@gulfcouncil.org, telephone: (813) 348-1630.

SUPPLEMENTARY INFORMATION:

Monday, January 9, 2017, 9 a.m. to 5 p.m. and Tuesday, January 10, 2017, 9 a.m. to 5 p.m., EDT

I. Adoption of Agenda

II. Overview of the For-Hire Sector

III. Summary of Current Reef Fish Amendments 41 and 42

IV. Decisions on For-Hire Management Programs

a. Type of Management Approaches Considered

b. Timing and Number of For-Hire Management Programs

c. Prioritization of Reef Fish Species to Included

d. Apportionment of For-Hire Quotas between Programs (if necessary)

e. Adjustments to Individual Allocations

f. Participation in Management Programs

g. Management Program Design Elements (if warranted)

V. Overall Recommendations to the Council and Wrap-Up

—Meeting Adjourns—

You may register for Joint Ad Hoc Reef Fish Headboat and Ad Hoc Red Snapper Charter For-Hire Advisory Panel meeting on January 9-10, 2017 at: https://attendee.gotowebinar.com/register/4361231942417618435.

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “AP meeting-2017-01”.

The meeting will be webcast over the internet. A link to the webcast will be available on the Council's Web site, http://www.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: December 9, 2016.
Tracey L. Thompson,
Acting Deputy Director, Office of Sustainable Fisheries, National Marine Fisheries Service.

[FR Doc. 2016-30088 Filed 12-14-16; 8:45 am]

BILLING CODE 3510-22-P